Title 3—

The President

Notice of January 20, 2026

Continuation of the National Emergency With Respect to the International Criminal Court

On February 6, 2025, by Executive Order 14203, I declared a national emergency pursuant to the International Emergency Economic Powers Act (50 U.S.C. 1701 et seq.) to deal with the unusual and extraordinary threat to the national security and foreign policy of the United States constituted by efforts by the International Criminal Court (ICC) to investigate, arrest, detain, or prosecute protected persons, as defined in section 8(d) of Executive Order 14203.

The ICC, as established by the Rome Statute, has engaged in illegitimate and baseless actions targeting America and our close ally Israel. The ICC has, without a legitimate basis, asserted jurisdiction over and opened preliminary investigations concerning personnel of the United States and certain of its allies, including Israel, and has further abused its power by issuing baseless arrest warrants targeting Israeli Prime Minister Benjamin Netanyahu and Former Minister of Defense Yoav Gallant. The ICC has no jurisdiction over the United States or Israel, as neither country is party to the Rome Statute or a member of the ICC. Neither country has ever recognized the ICC's jurisdiction, and both nations are thriving democracies with militaries that strictly adhere to the laws of war. The ICC's recent actions against Israel and the United States set a dangerous precedent, directly endangering current and former United States personnel, including active service members of the Armed Forces, by exposing them to harassment, abuse, and possible arrest. This malign conduct in turn threatens to infringe upon the sovereignty of the United States and undermines the critical national security and foreign policy work of the United States Government and our allies, including Israel.

Efforts by the ICC to investigate, arrest, detain, or prosecute protected persons, as defined in section 8(d) of Executive Order 14203, continue to pose an unusual and extraordinary threat to the national security and foreign policy of the United States. For this reason, the national emergency declared in Executive Order 14203 of February 6, 2025, must continue in effect beyond February 6, 2026. Therefore, in accordance with section 202(d) of the National Emergencies Act (50 U.S.C. 1622(d)), I am continuing for 1 year the national emergency declared in Executive Order 14203 with respect to the ICC.

This notice shall be published in the Federal Register and transmitted to the Congress.

THE WHITE HOUSE,

January 20, 2026.

[FR Doc. 2026-01544

Filed 1-23-26; 11:15 am]

Billing code 3395-F4-P